DEPARTMENT OF JUSTICE

Immigration and Naturalization Service

8 CFR Parts 103, 208, 210, 212, 235, 241, and 245a

[INS No. 2004-99; A.G. Order No. 2396-2001]

RIN 1115-AF53

Clarification of Parole Authority; Delay of Effective Date

AGENCY: Immigration and Naturalization Service, Department of Justice.

ACTION: Interim rule; delay of effective date.

SUMMARY: In accordance with the memorandum of January 20, 2001, from Andrew H. Card, Jr., the Assistant to the President and Chief of Staff, entitled “Regulatory Review Plan” (memorandum), this rule temporarily delays for 60 days the effective date of the interim rule entitled “Clarification of Parole Authority,” published in the Federal Register on December 28, 2000, at 65 FR 82254. This temporary delay will allow the Department an opportunity for further consideration of this rule.

EFFECTIVE DATE: The effective date of the interim rule amending 8 CFR Parts 103, 208, 210, 212,235, 241, and 245a published at 65 FR 82254, December 28, 2000, is delayed until March 30, 2001.

FOR FURTHER INFORMATION CONTACT: Kevin Jones, Deputy Assistant Attorney General, Office of Policy Development, U.S. Department of Justice, Washington, DC 20530, (202) 514-4604.

SUPPLEMENTARY INFORMATION: To the extent that 5 U.S.C. 553 applies, the Department's implementation of this rule effective upon publication in the Federal Register is based upon the “good cause” exception. This temporary delay in effective date will give Department officials the opportunity for further review and consideration of the earlier rule, consistent with the Memorandum of January 20, 2001, published in the Federal Register on January 24, 2001.

Dated: January 23, 2001.
Eric H. Holder, Jr.,
Acting Attorney General.

[FR Doc. 01-2411 Filed 1-25-01; 8:45 am]

BILLING CODE 4410-10-M